DEPARTMENT OF COMMERCE

National Oceanic and Atmospheric Administration

RIN 0648-XG050

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a meeting of its Law Enforcement Technical Committee (LETC), in conjunction with the Gulf States Marine Fisheries Commission's Law Enforcement Committee (LEC).

DATES: The meeting will convene on Tuesday, March 13, 2018, starting 8:30 a.m. and will adjourn at 5 p.m.

ADDRESSES: The meeting will be held at the Sheraton Bay Point Resort, located at 4114 Jan Cooley Drive, Panama City Beach, FL 32408; telephone: (850) 236-6000.

Council address: Gulf of Mexico Fishery Management Council, 2203 N Lois Avenue, Suite 1100, Tampa, FL 33607; telephone: (813) 348-1630.

FOR FURTHER INFORMATION CONTACT: Mr. Steven Atran, Senior Fishery Biologist, Gulf of Mexico Fishery Management Council; steven.atran@gulfcouncil.org, telephone: (813) 348-1630, and Mr. Steve Vanderkooy, Inter-jurisdictional Fisheries Coordinator, Gulf States Marine Fisheries Commission; svanderkooy@gsmfc.org, telephone: (228) 875-5912.

SUPPLEMENTARY INFORMATION: The items of discussion on the agenda are as follows:

Joint Gulf Council's Law Enforcement Technical Committee and Gulf States Marine Fisheries Commission's Law Enforcement Committee Meeting Agenda, Tuesday, March 13, 2018, 8:30 a.m. Until 5 p.m.

1. Introductions and Adoption of Agenda

2. Approval of Minutes (Joint Meeting October 18, 2017)

Gulf Council LETC Items

3. Spiny Lobster Amendment 13 (revised actions)

4. Coral Amendment 9—New SSC recommendation

5. Recreational Red Snapper State Management Programs—updated delegation action

6. Review of List of Authorized Fisheries and Gear

7. Discussion of a Possible Team of the Year Award

GSMFC LEC Items

8. Future of JEAs and JEA Funding Discussion

9. Potential Updating of Two-Year Operations Plan 2019-20

10. IJF Program Activity

a. Cobia Profile

b. Officers' Pocket Guide

c. Annual License and Fees

d. Law Summary (red book)

11. State Report Highlights

a. Florida

b. Alabama

c. Mississippi

d. Louisiana

e. Texas

f. USCG

g. NOAA OLE

h. USFWS

12. Other Business

Meeting Adjourns

The Agenda is subject to change. The latest version of the agenda along with other meeting materials will be posted on the Council's file server, which can be accessed by going to the Council website at http://www.gulfcouncil.org and clicking on File Server under Quick Links. For meeting materials see folder “LETC Meeting-2018-03” on Gulf Council file server. The username and password are both “gulfguest”.

The Law Enforcement Technical Committee consists of principal law enforcement officers in each of the Gulf States, as well as the NOAA Law Enforcement, U.S. Fish and Wildlife Service, the U.S. Coast Guard, and the NOAA General Counsel for Law Enforcement.

Although other non-emergency issues not on the agenda may come before this group for discussion, in accordance with the Magnuson-Stevens Fishery Conservation and Management Act, those issues may not be the subject of formal action during this meeting. Actions will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: February 21, 2018.
Tracey L. Thompson,
Acting Deputy Director, Office of Sustainable Fisheries, National Marine Fisheries Service.

[FR Doc. 2018-03837 Filed 2-23-18; 8:45 am]

BILLING CODE 3510-22-P